DEPARTMENT OF LABOR

Employment and Training Administration

[NAFTA—04698 and NAFTA—04698A]

Cummins, Inc. Cummins Power Generation St. Peter, MN, Including Temporary Workers of Pro Staff Temporary Services Employed at Cummins, Inc., Cummins Power Generation St, Peter, MN, Cummins, Inc., Cummins Power Generation Eden Prairie, MN; Amended Certification Regarding Eligibility to Apply for NAFTA-Transitional Adjustment Assistance

In accordance with Section 250(A), Subchapter D, Chapter 2, Title II, of the Trade Act of 1974 (19 U.S.C. 2273), the Department of Labor issued a Certification for NAFTA Transitional Adjustment Assistance on May 3, 2001, applicable to workers of Cummins, Inc., Cummins Power Generation, St. Peter, Minnesota. The notice published in the Federal Register on May 18, 2001 (66 FR 18119).

At the request of the company, the Department reviewed the certification for workers of the subject firm. Information provided by the company shows that some employees of the subject firm were temporary workers from Pro Staff Temporary Services, Mankato, Minnesota to produce power supplies at the St. Peter, Minnesota location of the subject firm. Information also shows that workers separations have occurred at the Eden Prairie, Minnesota location of the subject firm. The Eden Prairie, Minnesota location provides administrative services as well as design, sales and engineering services directly supporting the St. Peter, Minnesota facility.

Based on these findings, the Department is amending the certification to include temporary workers of Pro Staff Temporary Services, Mankoto, Minnesota who were engaged in the production of power supplies at Cummins, Inc., Cummins Power Generation, St. Peter, Minnesota and to include workers of the Eden Prairies, Minnesota location of Cummins, Inc., Cummins Power Generation.

The intent of the Department's certification is to include all workers of Cummins, Inc., Cummins Power Generation, St. Peter, Minnesota adversely affected by an increase of imports from Mexico and/or Canada.

The amended notice applicable to NAFTA—04698 is hereby issued as follows:

“All workers of Cummins, Inc., Cummins Power Generation, St. Peter, Minnesota, including temporary workers of Pro Staff Temporary Services, Mankoto, Minnesota who were engaged in the production of power supplies at Cummins, Inc., Cummins Power Generation, St. Peter, Minnesota; and all workers of Cummins, Inc., Cummins Power Generation, Eden Prairie, Minnesota who became totally or partially separated from employment on or after March 29, 2000 through May 3, 2003 are eligible to apply for NAFTA-TAA under Section 250 of the Trade Act of 1974.”

Signed at Washington, D.C. this 13th day of June, 2001.
Edward A. Tomchick,
Director, Division of Trade Adjustment Assistance.

[FR Doc. 01-16157 Filed 6-26-01; 8:45 am]

BILLING CODE 4510-30-M